DEPARTMENT OF DEFENSE

Office of the Secretary

Renewal of the Defense Department Advisory Committee on Women in the Services

AGENCY: Department of Defense.

ACTION: Notice.

SUMMARY: The Defense Department Advisory Committee on Women in the Services (DACOWITS) was renewed effective April 17, 2004, in consonance with the public interest, and in accordance with the provisions of the “Federal Advisory Committee Act.”

The Committee shall provide, through the Assistant Secretary of Defense (Principal Deputy Under Secretary of Defense for Personnel and Readiness), advice and recommendations on matters and policies relating to the recruitment and retention, treatment, employment, integration, and well-being of a highly qualified professional military women in the Armed Forces. In addition, the committee provides advice and recommendations on family issues related to the recruitment and retention of a highly qualified professional military.

The Defense Department Advisory Committee on Women in the Services (DACOWITS) is well balanced in terms of the interest groups represented and functions to be performed. The Committee consists of approximately 13 civilian members representing an equitable distribution of demography, professional career fields, community service, and geography, and selected on the basis of their experience in the military, as a member of a military family, or with women's or family-related workforce issues.

FOR FURTHER INFORMATION CONTACT: Contact COL Denise Dailey, DACOWITS Executive Director, 703-697-2122.

Dated: May 10, 2004.
L.M. Bynum,
Alternate OSD Federal Register, Liaison Officer, Department of Defense.

[FR Doc. 04-11044 Filed 5-14-04; 8:45 am]

BILLING CODE 5001-08-M